DEPARTMENT OF EDUCATION

Notice of Submission for OMB Review

AGENCY: Department of Education.

ACTION: Comment request.

SUMMARY: The Director, Information Collection Clearance Division, Regulatory Information Management Services, Office of Management invites comments on the submission for OMB review as required by the Paperwork Reduction Act of 1995 (Pub. L. 104-13).

DATES: Interested persons are invited to submit comments on or before March 18, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: February 10, 2011.
Darrin A. King,
Director, Information Collection Clearance Division, Regulatory Information Management Services, Office of Management.

Office of Planning, Evaluation and Policy Development

Type of Review: NEW.

Title of Collection: Equitable Distribution of Effective Teachers.

OMB Control Number: Pending.

Agency Form Number(s): N/A.

Frequency of Responses: Once.

Affected Public: State, Local, or Tribal Government, State Education Agencies or Local Education Agencies.

Total Estimated Number of Annual Responses: 42.

Total Estimated Annual Burden Hours: 135.

Abstract: The most recent reauthorization of the Elementary and Secondary Education Act in 2002 required that states provide assurances and develop plans to “ensure that poor and minority children are not taught at higher rates than other children by inexperienced, unqualified, or out of field teachers” (Section 1111 (b)(8)(C)). In 2009, American Recovery and Reinvestment Act (ARRA) requirements reinforced the focus on equitable distribution of teachers by requiring states applying for education stimulus funds to provide updated assurances and to publicize their most recent “equity plans.” ARRA also establishes competitive grants to help states build their pool of effective teachers and address inequities in the distribution of teachers. In addition to their focus on the equitable distribution of teacher quality, federal programs also have been promoting shifts in how teacher quality is measured, away from teacher qualifications and toward measures of instructional practice and effectiveness at raising student achievement. Federal programs such as the Teacher Incentive Fund and Race to the Top have provided incentives for states and districts to move in this direction, including funds to support some of the technical aspects of development.

Federal policymakers need to know whether the policies and programs they sponsor under these laws contribute to teacher quality for disadvantaged students. Hence, the U.S. Department of Education requires a study documenting the state and local actions to (a) develop new measures of teacher quality, (b) analyze the distribution of teacher quality, and (c) develop and implement plans to ensure teacher quality for disadvantaged students. To inform federal policymakers, the study will examine the implementation of these activities with attention to implementation challenges, the role of state and local context, and the roles of the federal programs designed to foster these activities.

The planned data collections will serve four objectives:

1. To examine how states and districts analyze the distribution of teacher quality, plan actions to address inequities, and monitor progress.

2. To examine how states and districts are changing their measures of teacher quality, and to understand their experiences in doing so.

3. To examine state and local actions to improve teacher quality for disadvantaged students (i.e., students in high-poverty or high-minority schools).

4. To describe the perceived contributions of federal programs to state and local actions aimed at improving the quality of teachers for disadvantaged students, and how state and local contexts mediate these contributions.

To address these objectives, our design includes telephone interviews with state education agencies and local education agencies.

Requests for copies of the information collection submission for OMB review may be accessed from the RegInfo.gov Web site at http://www.reginfo.gov/public/do/PRAMain or from the Department's Web site at http://edicsweb.ed.gov, by selecting the “Browse Pending Collections” link and by clicking on link number 4426. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-3489 Filed 2-15-11; 8:45 am]

BILLING CODE 4000-01-P